FEDERAL RESERVE SYSTEM

Change in Bank Control Notices; Formations of, Acquisitions by, and Mergers of Bank Holding Companies; Correction

This notice corrects a notice (FR Doc. 2016-08204) published on page 21346 of the issue for Monday, April 11, 2016.

Under the Federal Reserve Bank of St. Louis heading, the entry for Jeffery F. Teague and Sarah Shell Teague, as co-trustees of the Jeffery F. Teague and Sarah Shell Teague Joint Revocable Trust, all of El Dorado, Arkansas; Susan Shell Allison, individually, and as trustee of the Susan Allison Testamentary Trust with power to vote shares owned by her two minor children, all of Benton, Arkansas; Joseph Shell, individually, and as trustee of the Joe Shell Testamentary Trust with power to vote shares owned by the Hanna Shell Irrevocable Trust, and by his minor child, all of Batesville, Arkansas; Jay Shell with power to vote shares held by Carolyn Southerland Shell Testamentary Trust and by High Point Farms, Jayme Shell, Jessica Shell, Mary K. Shell, all of Batesville, Arkansas; and John Allison, and Anna Allison, both of Benton, Arkansas, all as members of the Allison-Shell-Teague family control group, is revised to read as follows:

1. Jeffery F. Teague and Sarah Shell Teague, as co-trustees of the Jeffery F. Teague and Sarah Shell Teague Joint Revocable Trust, all of El Dorado, Arkansas; Susan Shell Allison, individually, and as trustee of the Susan Allison Testamentary Trust and with power to vote shares owned by her two minor children, all of Benton, Arkansas; Joseph Shell, individually, and as trustee of the Joe Shell Testamentary Trust and with power to vote shares owned by the Hanna Shell Irrevocable Trust, by the Hunter Shell Irrevocable Trust, and by his minor child, all of Batesville, Arkansas; Jay Shell with power to vote shares held by Carolyn Southerland Shell Testamentary Trust and by High Point Farms, Jayme Shell, Jessica Shell, Mary K. Shell, all of Batesville, Arkansas; and John Allison and Anna Allison, both of Benton, Arkansas; to acquire and retain voting shares of Citizens Bancshares of Batesville, and thereby indirectly acquire and retain voting shares of The Citizens Bank, both in Batesville, Arkansas.

Comments on this application must be received by April 26, 2016.

Board of Governors of the Federal Reserve System, April 14, 2016.
Margaret McCloskey Shanks,
Deputy Secretary of the Board.

[FR Doc. 2016-08981 Filed 4-18-16; 8:45 am]

BILLING CODE 6210-01-P